DEPARTMENT OF COMMERCE

National Oceanic and Atmospheric Administration

50 CFR Part 679

[I.D. No. 111500B]

Fisheries of the Exclusive Economic Zone Off Alaska; Commencement of Groundfish Fisheries in 2001

AGENCY: National Marine Fisheries Service (NMFS), National Oceanic and Atmospheric Administration (NOAA), Commerce.

ACTION: Notification of 2001 total allowable catch specifications for groundfish

SUMMARY: NMFS notifies the public that the 2001 total allowable catch (TAC) specifications for groundfish in the exclusive economic zone in the Bering Sea and Aleutian Islands management area (BSAI) and in the Gulf of Alaska (GOA) will be implemented by emergency rule(s) promulgated pursuant to the Magnuson-Stevens Fishery Conservation and Management Act. NMFS has determined that the existing regulatory process for publication of annual groundfish TAC specifications is impracticable for establishing the 2001 TACs because NMFS currently is preparing a biological opinion pursuant to the Endangered Species Act (ESA) evaluating the effects of groundfish fisheries measures, including the specification of TACs, on endangered and threatened species. The intended effect of this action is to inform the public of NMFS’ plan to promulgate the 2001 groundfish TAC specifications by emergency rule and to remind fishermen that no groundfish harvest is authorized for the 2001 fishing year until NMFS publishes groundfish TAC specifications for the 2001 fishing year.

FOR FURTHER INFORMATION CONTACT: Sue Salveson, Assistant Regional Administrator for Sustainable Fisheries, Alaska Region, NMFS, 907-586-7228.

SUPPLEMENTARY INFORMATION: NMFS manages the groundfish fisheries in the BSAI and the GOA pursuant to the Fishery Management Plan for the Groundfish Fishery of the Bering Sea and Aleutian Islands Area, and the Fishery Management Plan for Groundfish of the Gulf of Alaska, respectively. Each of these fishery management plans (FMPs) was prepared by the North Pacific Fishery Management Council (Council) and approved by NMFS under authority of the Magnuson-Stevens Fishery Conservation and Management Act, 16 U.S.C. 1801 et seq. Regulations implementing the FMPs are codified at 50 CFR part 679. General regulations governing U.S. fisheries are codified at 50 CFR part 600.

NMFS currently is preparing a comprehensive biological opinion evaluating the effects of the Alaska groundfish fisheries measures, including the specification of TACs, on endangered and threatened species and designated critical habitat, as required by section 7 of the ESA, 16 U.S.C. 1536. NMFS is preparing this biological opinion pursuant to an order of the U.S. District Court for the Western District of Washington, issued July 19, 2000, holding NMFS in continuing violation of the ESA until NMFS issues a legally adequate biological opinion evaluating the combined, overall effects of the North Pacific groundfish fisheries on Steller sea lions and their critical habitat. Greenpeace v. NMFS, 106 F. Supp.2d 1066 (W.D. Wash. 2000).

NMFS expects to complete its biological opinion on the effects of the Alaska groundfish fisheries on threatened and endangered species and designated critical habitat by November 30, 2000. The biological opinion may require implementation of additional fishery management measures, including those affecting specification of TACs, in order to further protect endangered and threatened species and their designated critical habitat from the effects of the groundfish fisheries. Because the need for and type of additional protective measures will not be known until completion of the biological opinion, and because NMFS may need to implement additional protective measures before the start of the 2001 groundfish fisheries, NMFS has determined that it is impracticable to publish proposed, interim, and final TAC specifications for the 2001 Alaska groundfish fisheries pursuant to the regulatory process provided in § 679.20(c). Instead, NMFS intends to publish one or more emergency rules establishing TAC specifications for the 2001 groundfish fisheries and implementing any additional protective measures that may be necessary in accordance with the requirements of the biological opinion. NMFS will endeavor to publish these rules as quickly as possible to diminish disruption to the fisheries. Fishermen are reminded that no groundfish harvest is authorized for the 2001 fishing year until NMFS publishes 2001 TAC specifications.

Dated: November 16, 2000.
Bruce C. Morehead,
Acting Director, Office of Sustainable Fisheries, National Marine Fisheries Service.

[FR Doc. 00-29883 Filed 11-17-00; 4:20 pm]

BILLING CODE 3510-22-S